FEDERAL COMMUNICATIONS COMMISSION

[DA 20-81; FRS 16428]

Consumer Advisory Committee Meeting

AGENCY: Federal Communications Commission.

ACTION: Notice.

SUMMARY: The Commission announces the next meeting date, time, and agenda of its Consumer Advisory Committee (hereinafter the “Committee”).

DATES: February 13, 2020, 2:00 p.m. to 3:00 p.m.

ADDRESSES: Federal Communications Commission, 445 12th Street SW, Commission Meeting Room TW-C305, Washington, DC 20554.

FOR FURTHER INFORMATION CONTACT: Scott Marshall, Designated Federal Officer of the Committee, (202) 418-2809 (voice or Relay), email: Scott.Marshall@fcc.gov.

SUPPLEMENTARY INFORMATION: This is a summary of the Commission's document DA 20-81, released January 21, 2019, announcing the Agenda, Date, and Time of the Committee's next meeting.

Proposed Agenda: At its February 13, 2020 meeting, the Committee is expected to consider a recommendation presented by one of its working groups. The Committee's Robocall Report Working Group will present a recommendation on the gathering of data and/or sources of data relating to the availability and effectiveness of blocking tools, as described in paragraphs 88 to 90 of the Commission's Declaratory Ruling and Third Further Notice of Proposed Rulemaking in Advanced Methods to Target and Eliminate Unlawful Robocalls; Call Authentication Trust Anchor, CG Docket No. 17-59, WC Docket No. 17-97, published at 84 FR 29478, June 24, 2019. This is a special meeting to consider this recommendation, and there will be no other action items on the meeting agenda.

This meeting is open to members of the general public. The Commission will accommodate as many participants as possible; however, admission will be limited to seating availability. The Commission will also provide audio and/or video coverage of the meeting over the internet from the Commission's web page at: www.fcc.gov/live. Alternatively, the public may follow the meeting on Twitter @fcc or via the Commission's Facebook page at www.facebook.com/fcc. A limited amount of time will be available for comments from the public. Members of the public may also submit written comments to the Committee through its Designated Federal Officer, Scott Marshall, at the address above.

The meeting site is fully accessible to people using wheelchairs or other mobility aids. Sign language interpreters, open captioning, assistive listening devices, and braille copies of the agenda and committee roster will be provided on site. Meetings of the Committee are also broadcast live with open captioning over the internet from the FCC Live web page at www.fcc.gov/live/. Reasonable accommodations for people with disabilities are available upon request. The request should include a detailed description of the accommodation needed and contact information. Please provide as much advance notice as possible; last minute requests will be accepted but may not be possible to fill. To request an accommodation, send an email to fcc504@fcc.gov or call the Consumer and Governmental Affairs Bureau at (202) 418-0530 (voice), (202) 418-0432 (TTY).

Federal Communications Commission.
Gregory Haledjian,
Legal Advisor, Consumer and Governmental Affairs Bureau.

[FR Doc. 2020-01498 Filed 1-28-20; 8:45 am]

BILLING CODE 6712-01-P